DEPARTMENT OF LABOR

Office of Federal Contract Compliance Programs

Notice of Reinstatement, BFI Waste Services, L.L.C.

AGENCY: Office of Federal Contract Compliance Programs, U.S.Department of Labor.

SUMMARY: This notice advises that pursuant to 41 CFR 60-1.31, BFI Waste Services, L.L.C.'s 260 West Dickman Street, Baltimore, Maryland Facility (Division #50) has been reinstated as an eligible bidder on Federal contracts and subcontracts. For further information, contact Charles E. James, Sr., Deputy Assistant Secretary for Federal Contract Compliance, U.S. Department of Labor, 200 Constitution Avenue, NW., Room C-3325, Washington, DC 20210 (202) 693-0101.

SUPPLEMENTARY INFORMATION: BFI Waste Services, L.L.C.'s 260 West Dickman Street, Baltimore, Maryland Facility (Division #50), is as of this date, reinstated as an eligible bidder on Federal and federally assisted and contracts and subcontracts.

Dated: June 30, 2004, Washington, DC.
Charles E. James, Sr.,
Deputy Assistant Secretary for Federal Contract Compliance.

[FR Doc. 04-15595 Filed 7-8-04; 8:45 am]

BILLING CODE 4510-CH-M